SOCIAL SECURITY ADMINISTRATION

20 CFR Parts 404 and 416

[Docket No. SSA-2017-0042]

RIN 0960-AG65

Revised Medical Criteria for Evaluating Digestive Disorders and Skin Disorders

Correction

In Rule Document C1-2023-11771, appearing on page 55366 in the issue of Tuesday, August 15, 2023, amendatory instruction 1 and the following text is corrected to read as follows:

1, On page 37740, in the first column, after line 32 of Part 404, Appendix 1 to Subpart P, is corrected as set forth below.

* * * * *

PART 404—FEDERAL OLD-AGE, SURVIVORS AND DISABILITY INSURANCE (1950-) [Corrected]

* * * * *

Subpart P—Determining Disability and Blindness

* * * * *

Appendix 1 to Subpart P of Part 404—Listing of Impairments

* * * * *

(a) The initial calculation is:

SSA CLDi =

9.57 × [loge (serum creatinine mg/dL)]

+ 3.78 × [loge (serum total bilirubin mg/dL)]

+ 11.2 × [loge (INR)]

+ 6.43

rounded to the nearest whole integer.

* * * * *

[FR Doc. C2-2023-11771 Filed 8-21-23; 8:45 am]

BILLING CODE 0099-10-P